INTERNATIONAL TRADE COMMISSION

[Investigation Nos. 332-350 and 332-351]

Monitoring of U.S. Imports of Tomatoes; Monitoring of U.S. Imports of Peppers

AGENCY: United States International Trade Commission.

ACTION: Notice of opportunity to submit information for 2004 monitoring reports and notice that future reports will be made available only in electronic format.

SUMMARY: Pursuant to statute (see below), the Commission monitors U.S. imports of fresh or chilled tomatoes and fresh or chilled peppers, and gathers data on such imports. The Commission has made this data series available to the public on an annual basis. The Commission is in the process of preparing its data series for the period ending June 30, 2004, and is seeking input from interested members of the public for the reports it plans to publish in November. The Commission is also giving notice that, beginning with the November 2004 reports, it will make such reports available only in electronic format, posted on the Commission's Web site.

For further information concerning the conduct of these investigations and rules of general application, consult the Commission's Rules of Practice and Procedure, part 201, subparts A through E (19 CFR part 201), and part 207, subparts A and B (19 CFR part 207).

DATES: Effective Date: July 15, 2004.

FOR FURTHER INFORMATION CONTACT: Timothy McCarty (202-205-3324, mccarty@usitc.gov) or Cathy Jabara (202-205-3309, jabara@usitc.gov), Agriculture and Forest Products Division, Office of Industries, U.S. International Trade Commission, 500 E Street, SW., Washington, DC 20436, for general information, or William Gearhart (202-205-3091, wgearhart@usitc.gov), Office of the General Counsel, U.S. International Trade Commission, for information on legal aspects. Hearing-impaired persons can obtain information on this matter by contacting the Commission's TDD terminal on (202) 205-1810. General information concerning the Commission may also be obtained by accessing its Internet server (http://www.usitc.gov). The public record for these investigations may be viewed on the Commission's electronic docket (EDIS-ON LINE) at http://dockets.usitc.gov/eol/public.

SUPPLEMENTARY INFORMATION: Background.—Section 316 of the North American Free-Trade Agreement Implementation Act (NAFTA Implementation Act (19 U.S.C. 3881)) requires that the Commission monitor U.S. imports of fresh or chilled tomatoes (HTS heading 0702.00) and fresh or chilled peppers, other than chili peppers (HTS subheading 0709.60.00), until January 1, 2009, for purposes of expediting an investigation concerning provisional relief under section 202 of the Trade Act of 1974. It does not require that the Commission publish reports on this monitoring activity or otherwise make the information available to the public. However, the Commission maintains current data files on tomatoes and peppers in order to conduct an expedited 21-day investigation should a request be received.¹ In response to the monitoring directive, the Commission instituted investigation No. 332-350, Monitoring of U.S. Imports of Tomatoes (59 FR 1763) and investigation No. 332-351, Monitoring of U.S. Imports of Peppers (59 FR 1762).

¹ The domestic industry producing a like or directly competitive perishable agricultural product may request, in a global safeguard petition filed under section 202 of the Trade Act of 1974 or a bilateral safeguard petition filed under section 302 of the NAFTA Implementation Act, that provisional relief be provided pending completion of a full section 202 or 302 investigation. If provisional relief is requested, the Commission has 21 days in which to make its decision and to transmit any provisional relief recommendation to the President.

Under this proposal, data files will be stored electronically and will be maintained and made available to the public on the Commission's Web site until one year after the monitoring requirement expires on January 1, 2009. The most recent monitoring reports were published in November 2003 for tomatoes and peppers.

Written submissions.—The Commission does not plan to hold a public hearing in connection with these investigations. However, interested persons are invited to submit written statements concerning the manner in which these reports will be made available or matters to be addressed in the reports. Commercial or financial information which a submitter desires the Commission to treat as confidential must be provided on separate sheets of paper, each clearly marked “Confidential Business Information” at the top. All submissions requesting confidential treatment must conform with the requirements of section 201.6 of the Commission's Rules of Practice and Procedure (19 CFR 201.6). All written submissions, except for confidential business information, will be made available in the Office of the Secretary of the Commission for inspection by interested persons. The Commission will not include any confidential business information in its monitoring reports, but may include such information in a report to the President under section 202 or 302 if a request for such an investigation were received. To be assured of consideration by the Commission, written statements relating to the Commission's reports should be submitted to the Commission in accordance with section 201.8 of the Commission's rules at the earliest practical date and should be received no later than the close of business on August 27, 2003. All submissions should be addressed to the Secretary, United States International Trade Commission, 500 E Street, SW., Washington, DC 20436. The Commission's rules do not authorize filing submissions with the Secretary by facsimile or electronic means, except to the extent permitted by section 201.8 of the Commission's Rules of Practice and Procedure (19 CFR 201.8) (see Handbook for Electronic Filing Procedures, ftp://ftp.usitc.gov/pub/reports/electronic_filing_handbook.pdf). Person with questions regarding electronic filing should contact the Secretary (202-205-2000 or edis@usitc.gov).

Issued: July 20, 2004.
By order of the Commission.
Marilyn R. Abbott,
Secretary to the Commission.

[FR Doc. 04-16869 Filed 7-22-04; 8:45 am]

BILLING CODE 7020-02-P